NATIONAL FOUNDATION ON THE ARTS AND THE HUMANITIES

Meetings of Humanities Panel

AGENCY: National Endowment for the Humanities.

ACTION: Notice of Meetings.

SUMMARY: The National Endowment for the Humanities will hold fourteen meetings of the Humanities Panel, a federal advisory committee, during October, 2014. The purpose of the meetings is for panel review, discussion, evaluation, and recommendation of applications for financial assistance under the National Foundation on the Arts and Humanities Act of 1965.

DATES: See SUPPLEMENTARY INFORMATION section for meeting dates.

ADDRESSES: The meetings will be held at Constitution Center, 400 7th Street SW., Washington, DC 20506. See Supplementary Information section for meeting room numbers.

FOR FURTHER INFORMATION CONTACT: Lisette Voyatzis, Committee Management Officer, 400 7th Street SW. Room 4060, Washington, DC 20506, or call (202) 606-8322. Hearing-impaired individuals are advised that information on this matter may be obtained by contacting the National Endowment for the Humanities' TDD terminal at (202) 606-8282.

SUPPLEMENTARY INFORMATION: Pursuant to section 10(a)(2) of the Federal Advisory Committee Act (5 U.S.C. App.), notice is hereby given of the following meetings:

1. Date: October 01, 2014.

Time: 8:30 a.m. to 5:00 p.m.

Room: P002.

This meeting will discuss applications for the Bridging Cultures at Community Colleges grant program, submitted to the Division of Education Programs.

2. Date: October 02, 2014.

Time: 8:30 a.m. to 5:00 p.m.

Room P003.

This meeting will discuss applications on the subjects of U.S. History and Culture for the Humanities Collections and Reference Resources grant program, submitted to the Division of Preservation and Access.

3. Date: October 07, 2014.

Time: 8:30 a.m. to 5:00 p.m.

Room P002.

This meeting will discuss applications on the subjects of U.S. History and Culture for the Humanities Collections and Reference Resources grant program, submitted to the Division of Preservation and Access.

4. Date: October 09, 2014.

Time: 8:30 a.m. to 5:00 p.m.

Room P002.

This meeting will discuss applications on the subjects of U.S. History and Culture for the Humanities Collections and Reference Resources grant program, submitted to the Division of Preservation and Access.

5. Date: October 15, 2014.

Time: 8:30 a.m. to 5:00 p.m.

Room 4002.

This meeting will discuss applications on the subject of the History of Science for the Humanities Collections and Reference Resources grant program, submitted to the Division of Preservation and Access.

6. Date: October 16, 2014.

Time: 8:30 a.m. to 5:00 p.m.

Room P002.

This meeting will discuss applications on the subjects of Music and Performing Arts for the Humanities Collections and Reference Resources grant program, submitted to the Division of Preservation and Access.

7. Date: October 22, 2014.

Time: 8:30 a.m. to 5:00 p.m.

Room 4002.

This meeting will discuss applications on the subject of Art History for the Museums, Libraries, and Cultural Organizations: Implementation Grants, submitted to the Division of Public Programs.

8. Date: October 23, 2014.

Time: 8:30 a.m. to 5:00 p.m.

Room 4002.

This meeting will discuss applications on the subject of History for the Media Projects: Production Grants, submitted to the Division of Public Programs.

9. Date: October 23, 2014.

Time: 8:30 a.m. to 5:00 p.m.

Room P002.

This meeting will discuss applications on the subjects of New World Archeology and Culture for the Humanities Collections and Reference Resources grant program, submitted to the Division of Preservation and Access.

10. Date: October 27, 2014.

Time: 8:30 a.m. to 5:00 p.m.

Room 4002.

This meeting will discuss applications on the subject of History for the Museums, Libraries, and Cultural Organizations: Implementation Grants, submitted to the Division of Public Programs.

11. Date: October 28, 2014.

Time: 8:30 a.m. to 5:00 p.m.

Room 4002.

This meeting will discuss applications on the subjects of Cultural History and Music for the Media Projects: Production Grants, submitted to the Division of Public Programs.

12. Date: October 28, 2014.

Time: 8:30 a.m. to 5:00 p.m.

Room P002.

This meeting will discuss applications on the subject of World Studies for the Humanities Collections and Reference Resources grant program, submitted to the Division of Preservation and Access.

13. Date: October 29, 2014.

Time: 8:30 a.m. to 5:00 p.m.

Room 4002.

This meeting will discuss applications on the subject of History for the Museums, Libraries, and Cultural Organizations: Implementation Grants program, submitted to the Division of Public Programs.

14. Date: October 30, 2014.

Time: 8:30 a.m. to 5:00 p.m.

Room P002.

This meeting will discuss applications on the subjects of History and Culture for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: September 9, 2014.
Lisette Voyatzis,
Committee Management Officer.

[FR Doc. 2014-21962 Filed 9-12-14; 8:45 am]

BILLING CODE 7536-01-P